ENVIRONMENTAL PROTECTION AGENCY

[EPA-HQ-OW-2015-0335; FRL-9956-93-OW]

Final EPA-USGS Technical Report: Protecting Aquatic Life from Effects of Hydrologic Alteration

AGENCY: Environmental Protection Agency (EPA) and United States Geological Survey (USGS).

ACTION: Notice of availability.

SUMMARY: The Environmental Protection Agency (EPA) and the United States Geological Survey are releasing a technical report: Final EPA-USGS Technical Report: Protecting Aquatic Life from Effects of Hydrologic Alteration. Healthy aquatic ecosystems provide an array of services to individuals and society, including clean drinking water, irrigation supplies, and recreational opportunities. Sound and sustainable management of aquatic ecosystems is an integral part of managing water resources to meet the needs of society. Hydrologic alteration can be a contributor to the impairment of water bodies that are designated to support aquatic life. Stresses on aquatic life associated with hydrologic alteration may be further exacerbated by climate change.

This report provides States, Tribes and territories with scientific and technical information on the natural flow regime and potential effects of flow alteration on aquatic life, and a flexible, nonprescriptive framework that state water managers might consider if they are interested in developing narrative or numeric targets for flow regime components that are protective of aquatic life. The report also provides information about States and Tribes that have adopted narrative water quality standards to protect their waterbodies' flow regimes and on the potential impact of climate change on flow regimes.

FOR FURTHER INFORMATION CONTACT: Diana Eignor, Health and Ecological Criteria Division, Office of Water (Mail Code 4304T), Environmental Protection Agency, 1200 Pennsylvania Avenue NW., Washington, DC 20460; telephone number: (202) 566-1143; email address: eignor.diana@epa.gov.

SUPPLEMENTARY INFORMATION:

I. General Information

A. How can I get copies of this document and other related information?

1. Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426. For additional information about EPA's public docket, visit EPA Docket Center homepage at http://www.epa.gov/epahome/dockets.htm.

II. What is this document?

This document serves as a technical and informational resource for States, Tribes, territories, and other stakeholders that want to protect aquatic life from the adverse effects of flow alteration. To that end, this report provides technical information about the effect of altered flow regimes on aquatic life and a nonprescriptive framework that may be used to help quantify targets for flow regime components that are protective of aquatic life and their habitats. The report also provides examples of state and tribal water quality standards designed to protect such flow regimes and discusses the potential impact of climate change on flow regimes. This technical report is not a rule and it, therefore, does not impose any mandatory requirements. State and Tribal decision makers retain the discretion to adopt approaches or information presented in this report on a case-by-case basis that differ from the approaches described in this report.

III. Additional Information:

EPA and USGS each conducted internal peer reviews of the report, and EPA managed a contractor-led independent external peer review of the Draft EPA-USGS Technical Report: Protecting Aquatic Life from Effects of Hydrologic Alteration. EPA will make the external peer review comments and Agency responses to these comments available in the docket at http://www.regulations.gov.

Dated: December 14, 2016.
Joel Beauvais,
Deputy Assistant Administrator, Office of Water.

[FR Doc. 2016-30760 Filed 12-20-16; 8:45 am]

BILLING CODE 6560-50-P